GENERAL SERVICES ADMINISTRATION

Interagency Committee for Medical Records (ICMR); Cancellation of Medical Standard Forms

AGENCY: General Services Administration.

ACTION: Notice

SUMMARY: Standard Form 556, Medical Record—Immunohematology is cancelled. The Federal medical community no longer uses this form.

FOR FURTHER INFORMATION CONTACT: Ms. Barbara Williams, General Services Administration, (202) 501-0581.

DATES: Effective March 11, 2003.

Dated: March 3, 2003.
Barbara M. Williams,
Deputy Standard and Optional Forms Management Officer, General Services Administration.

[FR Doc. 03-5668 Filed 3-10-03; 8:45 am]

BILLING CODE 6820-34-M